DEPARTMENT OF ENERGY

Office of Energy Efficiency and Renewable Energy

[EERE-2017-BT-STD-0048]

Energy Conservation Program: Energy Conservation Standards for Dedicated-Purpose Pool Pump Motors; Notice of Public Meeting

AGENCY: Office of Energy Efficiency and Renewable Energy, Department of Energy.

ACTION: Notice of public meeting and webinar.

SUMMARY: On January 18, 2017, the U.S. Department of Energy (“DOE”) published in the Federal Register a direct final rule to establish new energy conservation standards for dedicated purpose pool pumps. These standards did not directly address the efficiency of the motors used in dedicated-purpose pool pumps, particularly in replacement applications. Interested stakeholders have encouraged DOE to initiate a working group to specifically address dedicated-purpose pool pump motors that can be used in replacement applications. Therefore, DOE is announcing a public meeting to gather data and information that could lead to the consideration of energy conservation standards for dedicated-purpose pool pump (DPPPs) motors. The meeting will be held on August 10, 2017.

DATES: DOE will hold a public meeting on August 10, 2017 from 10 a.m. to 3 p.m., in Washington, DC. The meeting will also be broadcast as a webinar. See the “Public Participation” section of this notice for webinar registration information, participant instructions, and information about the capabilities available to webinar participants.

ADDRESSES: The public meeting will be held at the U.S. Department of Energy, Forrestal Building, Room 8E-089, 1000 Independence Avenue SW., Washington, DC 20585-0121. Please see the, “Public Participation” section of this notice for additional information on attending the public meeting.

FOR FURTHER INFORMATION CONTACT: Mr. Jeremy Dommu, U.S. Department of Energy, Building Technologies Program, EE-5B, 1000 Independence Avenue SW., Washington, DC 20585-0121, (202) 586-9870. Email: ApplianceStandardsQuestions@ee.doe.gov.

SUPPLEMENTARY INFORMATION: On May 26, 2017, DOE published in the Federal Register a notice confirming the effective date and compliance date of new energy conservation standards for dedicated purpose pool pumps (82 FR 24218). These standards were established through a direct final rule published in the Federal Register on January 18, 2017 (82 FR 5650) and directly reflect the unanimous consensus of a negotiated rulemaking working group for DPPPs (“the DPPP Working Group”). In comments submitted in response to this direct final rule, four parties commented that they hesitated to support or stated they did not support the direct final rule, despite their participation in the DPPP Working Group and unanimous consensus, because the direct final rule did not address replacement motors that could be used in dedicated-purpose pool pumps. Two parties further encouraged DOE to initiate a working group to specifically address energy conservation standards for dedicated-purpose pool pump motors. (All comments are available for public viewing at https://www.regulations.gov/docket?D=EERE-2014-BT-STD-0048.) DOE plans to hold this public meeting to gather data and information that could lead to the consideration of energy conservation standards for dedicated-purpose pool pump motors and to consider the formation of a working group on dedicated-purpose pool pump motors.

Public Participation

Attendance at Public Meeting

The time, date and location of the public meeting are listed in the DATES and ADDRESSES sections at the beginning of this document. If you plan to attend the public meeting, please notify the Appliance and Equipment Standards staff at (202) 586-6636 or Appliance_Standards_Public_Meetings@ee.doe.gov.

Please note that foreign nationals visiting DOE Headquarters are subject to advance security screening procedures which require advance notice prior to attendance at the public meeting. If a foreign national wishes to participate in the public meeting, please inform DOE of this fact as soon as possible by contacting Ms. Regina Washington at (202) 586-1214 or by email: Regina.Washington@ee.doe.gov so that the necessary procedures can be completed.

DOE requires visitors to have laptops and other devices, such as tablets, checked upon entry into the building. Any person wishing to bring these devices into the Forrestal Building will be required to obtain a property pass. Visitors should avoid bringing these devices, or allow an extra 45 minutes to check in. Please report to the visitor's desk to have devices checked before proceeding through security.

Due to the REAL ID Act implemented by the Department of Homeland Security (DHS), there have been recent changes regarding ID requirements for individuals wishing to enter Federal buildings from specific States and U.S. territories. DHS maintains an updated Web site identifying the State and territory driver's licenses that currently are acceptable for entry into DOE facilities at https://www.dhs.gov/real-id-enforcement-brief. A driver's license from a State or territory identified as not compliant by DHS will not be accepted for building entry and one of the alternate forms of ID listed below will be required. Acceptable alternate forms of Photo-ID include U.S. Passport or Passport Card; an Enhanced Driver's License or Enhanced ID-Card issued by States and territories as identified on the DHS Web site (Enhanced licenses issued by these States and territories are clearly marked Enhanced or Enhanced Driver's License); a military ID or other Federal government-issued Photo-ID card.

In addition, you can attend the public meeting via webinar. Webinar registration information, participant instructions, and information about the capabilities available to webinar participants will be published on DOE's Web site: https://www1.eere.energy.gov/buildings/appliance_standards/standards.aspx?productid=6. Participants are responsible for ensuring their systems are compatible with the webinar software.

Procedure for Submitting Prepared General Statements for Distribution

Any person who has plans to present a prepared general statement may request that copies of his or her statement be made available at the public meeting. Such persons may submit requests, along with an advance electronic copy of their statement in PDF (preferred), Microsoft Word or Excel, WordPerfect, or text (ASCII) file format, to the appropriate address shown in the ADDRESSES section at the beginning of this notice. The request and advance copy of statements must be received at least one week before the public meeting and may be emailed, hand-delivered, or sent by mail. DOE prefers to receive requests and advance copies via email. Please include a telephone number to enable DOE staff to make a follow-up contact, if needed.

Conduct of Public Meeting

DOE will designate a DOE official to preside at the public meeting and may also use a professional facilitator to aid discussion. The meeting will not be a judicial or evidentiary-type public hearing, but DOE will conduct it in accordance with section 336 of EPCA (42 U.S.C. 6306). A court reporter will be present to record the proceedings and prepare a transcript. DOE reserves the right to schedule the order of presentations and to establish the procedures governing the conduct of the public meeting.

The public meeting will be conducted in an informal, conference style. DOE will present summaries of comments received before the public meeting, allow time for prepared general statements by participants, and encourage all interested parties to share their views. Each participant will be allowed to make a general statement (within time limits determined by DOE), before the discussion of specific topics. DOE will permit, as time permits, other participants to comment briefly on any general statements.

At the end of all prepared statements on a topic, DOE will permit participants to clarify their statements briefly and comment on statements made by others. Participants should be prepared to answer questions by DOE and by other participants concerning these issues. DOE representatives may also ask questions of participants concerning other relevant matters. The official conducting the public meeting will accept additional comments or questions from those attending, as time permits. The presiding official will announce any further procedural rules or modification of the above procedures that may be needed for the proper conduct of the public meeting.

A transcript of the public meeting will be included on DOE's Web site: https://www1.eere.energy.gov/buildings/appliance_standards/standards.aspx?productid=6. In addition, any person may buy a copy of the transcript from the transcribing reporter.

Issued in Washington, DC, on June 23, 2017.
Kathleen B. Hogan,
Deputy Assistant Secretary for Energy Efficiency, Energy Efficiency and Renewable Energy.

[FR Doc. 2017-13928 Filed 6-30-17; 8:45 am]

BILLING CODE 6450-01-P